ENVIRONMENTAL PROTECTION AGENCY

40 CFR Part 180

[EPA-HQ-OPP-2021-0448; FRL-10570-01-OCSPP]

Trifloxystrobin; Pesticide Tolerances

AGENCY: Environmental Protection Agency (EPA).

ACTION: Final rule.

SUMMARY: This regulation establishes tolerances for residues of trifloxystrobin in or on multiple crops that are discussed later in this document. Interregional Research Project Number 4 (IR-4) requested these tolerances under the Federal Food, Drug, and Cosmetic Act (FFDCA).

DATES: This regulation is effective June 20, 2023. Objections and requests for hearings must be received on or before August 21, 2023, and must be filed in accordance with the instructions provided in 40 CFR part 178 (see also Unit I.C. of the SUPPLEMENTARY INFORMATION).

ADDRESSES: The docket for this action, identified by docket identification (ID) number EPA-HQ-OPP-2021-0448, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. For the latest status information on EPA/DC services, docket access, visit https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at https://www.ecfr.gov/current/title.

C. How can I file an objection or hearing request?

Under FFDCA section 408(g), 21 U.S.C. 346a(g), any person may file an objection to any aspect of this regulation and may also request a hearing on those objections. You must file your objection or request a hearing on this regulation in accordance with the instructions provided in 40 CFR part 178. To ensure proper receipt by EPA, you must identify docket ID number EPA-HQ-OPP-2021-0448 in the subject line on the first page of your submission. All objections and requests for a hearing must be in writing and must be received by the Hearing Clerk on or before August 21, 2023. Addresses for mail and hand delivery of objections and hearing requests are provided in 40 CFR 178.25(b), although the Office of the Administrative Law Judges, which houses the Hearing Clerk, encourages parties to file objections and hearing requests electronically. See https://www.epa.gov////-05//2020-04-10_-_order_urging_electronic_service_and_filing.pdf.

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2021-0448, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov//where-send-comments-epa-dockets.

Additional instructions on commenting or visiting the docket, along with more information about dockets generally, is available at https://www.epa.gov/dockets.

II. Summary of Petitioned-For Tolerance

In the Federal Register of October 21, 2021 (86 FR 58239) (FRL-8792-04-OCSPP), EPA issued a document pursuant to FFDCA section 408(d)(3), 21 U.S.C. 346a(d)(3), announcing the filing of a pesticide petition (PP 1E8931) by IR-4, North Carolina State University, 1730 Varsity Drive, Venture IV, Suite 210, Raleigh, NC 27606. The petition requested that 40 CFR 180.555 be amended by establishing tolerances for residues of trifloxystrobin, methyl (αE)-α-(methoxyimino)-2-[[[[(1E)-1-[3-(trifluoromethyl)phenyl] ethylidene]amino]oxy]methyl]benzeneace, in or on the raw agricultural commodities Brassica, leafy greens, subgroup 4-16B at 30 parts per million (ppm); Celtuce at 9 ppm; Fennel, Florence, fresh leaves and stalk at 9 ppm; Fruit, citrus, group 10-10 at 0.6 ppm; Fruit, pome, group 11-10 at 0.7 ppm; Fruit, stone, group 12-12 at 3 ppm; Kohlrabi at 2 ppm; Leafy greens subgroup 4-16A at 30 ppm; Leaf petiole vegetable subgroup 22B at 9 ppm; Nut, tree, group 14-12 at 0.04 ppm; Onion, bulb, subgroup 3-07A at 0.04 ppm; Onion, green, subgroup 3-07B at 1.5 ppm; Spice group 26 at 30 ppm; Vegetable, Brassica, head and stem, group 5-16 at 2 ppm; Vegetable, fruiting, group 8-10 at 0.5 ppm; Individual crops of Proposed Subgroup 6-XXA: Edible podded bean legume vegetable subgroup at 1.5 ppm; Individual crops of Proposed Subgroup 6-XXE: Dried shelled bean, except soybean, subgroup at 0.06 ppm; and Individual commodities of Proposed Crop Subgroup 6-XXF: Dried shelled pea subgroup at 0.2 ppm. Due to the length of the list of commodities, please refer to the document EPA issued in the Federal Register on October 21, 2021, for a complete list of the tolerances requested.

The petition also proposed to remove established tolerances for residues of trifloxystrobin in or on the following: Brassica, head and stem, subgroup 5A at 2.0 ppm; Brassica, leafy greens, subgroup 5B at 30 ppm; Fruit, citrus, group 10 at 0.6 ppm; Fruit, pome at 0.5 ppm; Fruit, stone, group 12 at 2 ppm; Leaf petioles subgroup 4B at 9.0 ppm; Leafy greens, subgroup 4A at 30 ppm; Nut, tree, group 14 at 0.04 ppm; Pea and bean, dried shelled, except soybean, subgroup 6C at 0.06 ppm; Pistachio at 0.04 ppm; Vegetable, fruiting at 0.5 ppm.

That document referenced a summary of the petition, which is available in the docket, https://www.regulations.gov. No substantive comments were submitted in response to this petition.

Based upon review of the data supporting the petition and in accordance with its authority under FFDCA section 408(d)(4)(A)(i), EPA is establishing tolerances for three subgroups in the recently revised Legume vegetable crop group 6-22 instead of the specific commodities in those subgroups as requested by the petitioner. See the Federal Register of September 21, 2022 (87 FR 57627) (FRL-5031-13-OCSPP).

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

Consistent with FFDCA section 408(b)(2)(D), and the factors specified therein, EPA has reviewed the available scientific data and other relevant information in support of this action. EPA has sufficient data to assess the hazards of and to make a determination on aggregate exposure for trifloxystrobin including exposure resulting from the tolerances established by this action. EPA's assessment of exposures and risks associated with trifloxystrobin follows.

In an effort to streamline its publications in the Federal Register, EPA is not reprinting sections that repeat what has been previously published for tolerance rulemaking of the same pesticide chemical. Where scientific information concerning a particular chemical remains unchanged, the content of those sections would not vary between tolerance rulemaking, and EPA considers referral back to those sections as sufficient to provide an explanation of the information EPA considered in making its safety determination for the new rulemaking.

EPA has previously published a number of tolerance rulemakings for trifloxystrobin, in which EPA concluded, based on the available information, that there is a reasonable certainty that no harm would result from aggregate exposure to trifloxystrobin and established tolerances for residues of that chemical. EPA is incorporating previously published sections of those rulemakings that remain unchanged, as described further in this rulemaking. Specific information on the risk assessment conducted in support of this action, including on the studies received and the nature of the adverse effects caused by trifloxystrobin, can be found in the document titled “Trifloxystrobin. Human Health Risk Assessment for Proposed New Uses on Bulb Onion (Subgroup 3-07A), Green Onion (Subgroup 3-07B), and Individual Commodities of Proposed Subgroup 6-XXA, E, and F, and for Crop Group Conversions and Expansions” which is available in the docket for this action at https://www.regulations.gov.

Toxicological profile. For a discussion of the Toxicological Profile of trifloxystrobin, see Unit III.A. of the trifloxystrobin tolerance rulemaking published in the Federal Register of February 15, 2019 (84 FR 4340) (FRL-9985-23).

Toxicological points of departure/Levels of concern. For a summary of the Toxicological Points of Departure/Levels of Concern used for the safety assessment, see Unit III.B. of the February 15, 2019, rulemaking.

Exposure assessment. Much of the exposure assessment remains the same since the February 15, 2019, and January 11, 2022 (87 FR 1363) (FRL-9086-01-OCSPP) rulemakings, although the new exposure assessment incorporates additional dietary exposures from the petitioned-for tolerances. These updates are discussed in this section; for a description of the rest of EPA's approach to and assumptions for the exposure assessment, see Unit III.C in the February 15, 2019, and Unit III in the January 11, 2022, rulemaking.

EPA's acute and chronic dietary (food and drinking water) exposure assessments have been updated to include the exposure from residues of trifloxystrobin on the commodities identified in this action as well as exposure from existing tolerances. The dietary exposure and risk assessment was conducted using the Dietary Exposure Evaluation Model software with the Food Commodity Intake Database (DEEM-FCID) Version 4.02. This software uses 2005-2010 food consumption data from the U.S. Department of Agriculture's (USDA's) National Health and Nutrition Examination Survey, What We Eat in America (NHANES/WWEIA). The acute dietary assessment used tolerance-level residues, 100 percent crop treated (PCT) and default processing factors. A partially refined chronic dietary exposure and risk assessment was conducted. Chronic dietary assumptions included average field trial residues for selected crops (subgroups 4A and 4B, subgroups 5A and 5B, crop group 26, apples, and rice); tolerance-level residues for all other crop commodities; empirical and default processing factors; and some PCT data.

Anticipated residue and PCT information. Section 408(b)(2)(E) of FFDCA authorizes EPA to use available data and information on the anticipated residue levels of pesticide residues in food and the actual levels of pesticide residues that have been measured in food. If EPA relies on such information, EPA must require pursuant to FFDCA section 408(f)(1) that data be provided 5 years after the tolerance is established, modified, or left in effect, demonstrating that the levels in food are not above the levels anticipated. For the present action, EPA will issue such data call-ins as are required by FFDCA section 408(b)(2)(E) and authorized under FFDCA section 408(f)(1). Data will be required to be submitted no later than 5 years from the date of issuance of these tolerances.

Section 408(b)(2)(F) of FFDCA states that the Agency may use data on the actual percent of food treated for assessing chronic dietary risk only if:

• Condition a: The data used are reliable and provide a valid basis to show what percentage of the food derived from such crop is likely to contain the pesticide residue.

• Condition b: The exposure estimate does not underestimate exposure for any significant subpopulation group.

• Condition c: Data are available on pesticide use and food consumption in a particular area, and the exposure estimate does not understate exposure for the population in such area.

In addition, the Agency must provide for periodic evaluation of any estimates used. To provide for the periodic evaluation of the estimate of PCT as required by FFDCA section 408(b)(2)(F), EPA may require registrants to submit data on PCT.

The following average percent crop treated estimates were used in the chronic dietary risk assessment for the following crops that are currently registered for trifloxystrobin: almonds: 20%, apples: 35%, apricots: 15%, cabbage: <2.5%, cantaloupes: 2.5%, carrots: 2.5%, cauliflower: <1%, celery: 25%, cherries: 45%, corn: <2.5%, cotton: <1%, cucumbers: <2.5%, dry beans/peas: <1%, grapefruit: 35%, grapes, table: 50%; grapes, raisin: 25%, grapes, wine: 25%, hazelnuts: 70%, lemons: <1%, lettuce: <1%, nectarines: 15%, oranges: 10%, peaches: 10%, peanuts: 5%, pears: 15%, pecans: 15%, peppers: <2.5%, pistachios: 10%, plums: 5%, potatoes: <1%, prunes: <1%, pumpkins: 5%, rice: 15%, soybeans: <2.5%, squash: <2.5%, strawberries: 15%, sugar beets: 5%, sweet corn: <1%, tangerines: 5%, tomatoes: <1%, watermelons: 5%, wheat: <2.5%. One hundred PCT was assumed for the remaining commodities.

In most cases, EPA uses available data from United States Department of Agriculture/National Agricultural Statistics Service (USDA/NASS), proprietary market surveys, and California Department of Pesticide Regulation (CalDPR) Pesticide Use Reporting (PUR) for the chemical/crop combination for the most recent 10 years. EPA uses an average PCT for chronic dietary risk analysis and a maximum PCT for acute dietary risk analysis. The average PCT figure for each existing use is derived by combining available public and private market survey data for that use, averaging across all observations, and rounding to the nearest 5%, except for those situations in which the average PCT is less than 1% or less than 2.5% as the average PCT value, respectively. In those cases, the Agency would use 1% or 2.5% as the average PCT value, respectively. The maximum PCT figure is the highest observed maximum value reported within the most recent 10 years of available public and private market survey data for the existing use and rounded up to the nearest multiple of 5%, except where the maximum PCT is less than 2.5%, in which case, the Agency uses 2.5% as the maximum PCT.

The Agency believes that Conditions a, b, and c discussed above have been met. With respect to Condition a, PCT estimates are derived from Federal and private market survey data, which are reliable and have a valid basis. The Agency is reasonably certain that the percentage of the food treated is not likely to be an underestimation. As to Conditions b and c, regional consumption information and consumption information for significant subpopulations is taken into account through EPA's computer-based model for evaluating the exposure of significant subpopulations including several regional groups. Use of this consumption information in EPA's risk assessment process ensures that EPA's exposure estimate does not understate exposure for any significant subpopulation group and allows the Agency to be reasonably certain that no regional population is exposed to residue levels higher than those estimated by the Agency. Other than the data available through national food consumption surveys, EPA does not have available reliable information on the regional consumption of food to which trifloxystrobin may be applied in a particular area.

Drinking water and non-occupational exposures. The estimated drinking water concentrations (EDWCs) have been updated since the 2019 and 2022 rulemakings. The highest daily value of 436 ppb and a post-breakthrough average of 356 ppb for trifloxystrobin total toxic residues (TTR) in groundwater were used as residues in drinking water for acute and chronic dietary risk analyses, respectively.

The residential exposure assessment has not changed since the 2022 rulemaking. For a summary of the residential exposure analysis for trifloxystrobin used for the human risk assessment, please reference Unit III of the January 11, 2022, rulemaking.

Cumulative exposure. Section 408(b)(2)(D)(v) of FFDCA requires that, when considering whether to establish, modify, or revoke a tolerance, the Agency consider “available information” concerning the cumulative effects of a particular pesticide's residues and “other substances that have a common mechanism of toxicity.” Unlike other pesticides for which EPA has followed a cumulative risk approach based on a common mechanism of toxicity, EPA has not made a common mechanism of toxicity finding as to trifloxystrobin and any other substances and trifloxystrobin does not appear to produce a toxic metabolite produced by other substances. For the purposes of this action, therefore, EPA has not assumed that trifloxystrobin has a common mechanism of toxicity with other substances.

Safety factor for infants and children. EPA continues to conclude that there are reliable data to support the reduction of the Food Quality Protection Act (FQPA) safety factor from 10X to 1X for all routes of exposure other than inhalation. The FQPA safety factor of 10X has been retained for inhalation endpoints only to account for the lack of the subchronic inhalation toxicity study for trifloxystrobin at this time. See Unit III.D. of the February 15, 2019, rulemaking for a discussion of the Agency's rationale for that determination.

Aggregate risks and determination of safety. EPA determines whether acute and chronic dietary pesticide exposures are safe by comparing dietary exposure estimates to the acute population-adjusted dose (aPAD) and chronic population-adjusted dose (cPAD). Short-, intermediate-, and chronic-term aggregate risks are evaluated by comparing the estimated total food, water, and residential exposure to the appropriate points of departure to ensure that an adequate margin of exposure (MOE) exists.

Acute dietary (food and drinking water) risks are below the Agency's level of concern of 100% of the aPAD: they are 3% of the aPAD for females 13 to 49 years old, which is the only population subgroup of concern. Chronic dietary (food and drinking water) risks are below the Agency's level of concern of 100% of the cPAD: they are 79% of the cPAD for infants less than 1 year old, which is the population subgroup with the highest exposure estimate. The short-term aggregate risk for the population subgroup with the highest total exposure (children 1 to less than 2 years old) is an aggregate MOE of 124, which is above the level of concern of 100 and not of concern. Short-term aggregate risk calculations are protective of the intermediate-term duration of exposure. Because trifloxystrobin is classified as “not likely to be carcinogenic to humans”, EPA has concluded that aggregate exposure to trifloxystrobin is not likely to pose a cancer risk.

Therefore, based on the risk assessments and information described above, EPA concludes there is a reasonable certainty that no harm will result to the general population, or to infants and children, from aggregate exposure to trifloxystrobin residues.

IV. Other Considerations

A. Analytical Enforcement Methodology

For a discussion of the available analytical enforcement method, see Unit IV.A. of the February 15, 2019, rulemaking.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4).

The U.S. tolerances are harmonized with Codex MRLs for residues of trifloxystrobin on pome fruits, and stone fruits. There are no Codex MRLs for Brassica, leafy greens, subgroup 4-16B; celtuce; fruit, citrus, group 10-10; Florence fennel; kohlrabi; onion, bulb, subgroup 3-07A; or spice group 26. For many of the rest of the crops covered by this action, the majority of Codex MRLs are lower than the U.S. tolerances (lettuce, spinach, celery, nuts, leek (which is in green onion subgroup 3-07B), broccoli, broccoli Chinese, cauliflower, Brussels sprouts, cabbage, cabbage savoy, edible podded beans). No harmonization is possible for these commodities because decreasing the tolerance to harmonize with the Codex MRL could put U.S. growers at risk of violative residues despite legal use of trifloxystrobin. The U.S. tolerance for the fruiting vegetables group is being established at 0.5 ppm and is not being harmonized with the Codex MRLs for eggplant and tomato (0.7 ppm) or bell pepper (0.3 ppm). Harmonization with the bell pepper tolerance could lead to violative residues despite compliance with approved label language. Moreover, EPA prefers to leave tolerances for these commodities at 0.5 ppm, as that level harmonizes with Canadian MRLs. The U.S. tolerances for dried beans and peas (0.06 ppm and 0.2 ppm, respectively) are not being harmonized with the Codex MRLs for those same commodities (0.5 ppm and 1.5 ppm, respectively) since the Codex MRLs are more than five times higher than the U.S. tolerances. Harmonizing with the Codex MRLs would complicate the ability to detect pesticide misuse. Moreover, the available residue data support the lower tolerances for dried beans and peas.

V. Conclusion

Therefore, tolerances are established for residues of trifloxystrobin in or on Brassica, leafy greens, subgroup 4-16B at 30 ppm; Celtuce at 9 ppm; Fennel, Florence, fresh leaves and stalk at 9 ppm; Fruit, citrus, group 10-10 at 0.6 ppm; Fruit, pome, group 11-10 at 0.7 ppm; Fruit, stone, group 12-12 at 3 ppm; Kohlrabi at 2 ppm; Leaf petiole vegetable subgroup 22B at 9 ppm; Leafy greens subgroup 4-16A at 30 ppm; Nut, tree, group 14-12 at 0.04 ppm; Onion, bulb, subgroup 3-07A at 0.04 ppm; Onion, green, subgroup 3-07B at 1.5 ppm; Spice group 26 at 30 ppm; Vegetable, Brassica, head and stem, group 5-16 at 2 ppm; Vegetable, fruiting, group 8-10 at 0.5 ppm; Vegetable, legume, bean, edible podded, subgroup 6-22A at 1.5 ppm; Vegetable, legume, pulse, bean, dried shelled, except soybean, subgroup 6-22E at 0.06 ppm; and Vegetable, legume, pulse, pea, dried shelled, subgroup 6-22F at 0.2 ppm.

Additionally, the established tolerances on Brassica, head and stem, subgroup 5A; Brassica, leafy greens, subgroup 5B; Dill, seed; Fruit, citrus, group 10; Fruit, pome; Fruit, stone, group 12; Leaf petioles subgroup 4B; Leafy greens, subgroup 4A; Nut, tree, group 14; Pea and bean, dried shelled, except soybean, subgroup 6C; Pistachio; and Vegetable, fruiting, are removed as unnecessary.

The tolerance for Vegetable, legume, edible podded, subgroup 6A with footnote 4 indicating there are no U.S. registrations on this commodity as of January 11, 2022, is removed as unnecessary. The edible podded beans covered by the previous subgroup 6A tolerance are included in the newly established tolerance Vegetable, legume, bean, edible podded, subgroup 6-22A at 1.5 ppm, which supports a domestic use on edible podded beans. Individual tolerances are established for the edible podded peas that were covered by the previous subgroup 6A tolerance: Pea, dwarf, edible podded; Pea, green, edible podded; Pea, pigeon, edible podded; Pea, snap, edible podded; Pea, snow, edible podded; and Pea, sugar snap, edible podded. Although green pea and snap pea are not expressly identified in subgroup 6A, they are varieties belonging to the Pisum genus, which is covered by subgroup 6A. These edible podded pea tolerances include footnote 4 indicating there are no U.S. registrations for these commodities.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001), or to Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal governments, on the relationship between the National Government and the States or Tribal governments, or on the distribution of power and responsibilities among the various levels of government or between the Federal Government and Indian Tribes. Thus, the Agency has determined that Executive Order 13132, entitled “Federalism” (64 FR 43255, August 10, 1999), and Executive Order 13175, entitled “Consultation and Coordination with Indian Tribal Governments” (65 FR 67249, November 9, 2000), do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: June 13, 2023.
Charles Smith,
Director, Registration Division, Office of Pesticide Programs.

Therefore, for the reasons stated in the preamble, EPA amends 40 CFR chapter 1 as follows:

PART 180—TOLERANCES AND EXEMPTIONS FOR PESTICIDE CHEMICAL RESIDUES IN FOOD

1. The authority citation for part 180 continues to read as follows:

Authority: 21 U.S.C. 321(q), 346a and 371.

2. In § 180.555, revise the table in paragraph (a) to read as follows:

§ 180.555 Trifloxystrobin; tolerances for residues.

(a) * * *

Table 1 to Paragraph (a)
Commodity | Parts per million
Alfalfa, forage | 0.01
Alfalfa, hay | 0.01
Almond, hulls | 9.0
Apple, wet pomace | 5.0
Artichoke, globe | 1.0
Asparagus | 0.07
Banana ¹ | 0.10
Barley, grain | 0.05
Barley, hay | 0.3
Barley, straw | 5.0
Beet, sugar, dried pulp | 0.4
Beet, sugar, molasses | 0.2
Beet, sugar, roots | 0.1
Beet, sugar, tops | 4.0
Berry, low growing subgroup 13-07G | 1.5
Brassica, leafy greens, subgroup 4-16B | 30
Caneberry, subgroup 13-07A ⁴ | 2
Canistel | 0.7
Cattle, fat | 0.1
Cattle, meat | 0.1
Cattle, meat byproducts | 0.1
Celtuce | 9
Citrus, dried pulp | 1.0
Citrus, oil | 38
Coffee, green bean ² | 0.02
Corn, field, forage | 8.0
Corn, field, grain | 0.05
Corn, field, stover | 7
Corn, field, refined oil | 0.1
Corn, pop, grain | 0.05
Corn, pop, stover | 7
Corn, sweet, cannery waste | 0.6
Corn, sweet, forage | 7.0
Corn, sweet, kernel plus cob with husks removed | 0.04
Corn, sweet, stover | 4.0
Cotton, gin byproducts | 3.0
Cottonseed subgroup 20C | 0.50
Currant ⁴ | 3
Egg | 0.04
Fennel, Florence, fresh leaves and stalk | 9
Flax, seed | 0.40
Fruit, citrus, group 10-10 | 0.6
Fruit, pome, group 11-10 | 0.7
Fruit, small vine climbing, except fuzzy kiwifruit, subgroup 13-07F | 2.0
Fruit, stone, group 12-12 | 3
Goat, fat | 0.1
Goat, meat | 0.1
Goat, meat byproducts | 0.1
Grain, aspirated fractions | 10
Grape, raisin | 5.0
Grass, forage | 12
Grass, hay | 17
Herbs, subgroup 19A | 200
Hog, fat | 0.05
Hog, meat | 0.05
Hog, meat byproducts | 0.05
Hop, dried cones | 11.0
Horse, fat | 0.1
Horse, meat | 0.1
Horse, meat byproducts | 0.1
Kohlrabi | 2
Leaf petiole vegetable subgroup 22B | 9
Leafy greens subgroup 4-16A | 30
Mango | 0.7
Milk | 0.02
Nut, tree, group 14-12 | 0.04
Oat, forage | 0.3
Oat, grain | 0.05
Oat, hay | 0.3
Oat, straw | 5.0
Onion, bulb, subgroup 3-07A | 0.04
Onion, green, subgroup 3-07B | 1.5
Papaya | 0.7
Pea, dwarf, edible podded ⁴ | 1.5
Pea, field, hay | 15
Pea, field, vines | 4
Pea, green, edible podded ⁴ | 1.5
Pea, pigeon, edible podded ⁴ | 1.5
Pea, snap, edible podded ⁴ | 1.5
Pea, snow, edible podded ⁴ | 1.5
Pea, sugar snap, edible podded⁴ | 1.5
Pea and bean, succulent shelled, subgroup 6B ⁴ | 0.2
Peanut, hay | 4.0
Peanut | 0.05
Poultry, fat | 0.04
Poultry, meat | 0.04
Poultry, meat byproducts | 0.04
Radish, tops | 10
Rice, grain | 3.5
Rice, hulls | 8
Sapodilla | 0.7
Sapote, black | 0.7
Sapote, mamey | 0.7
Sheep, fat | 0.1
Sheep, meat | 0.1
Sheep, meat byproducts | 0.1
Soybean, forage | 10.0
Soybean, hay | 25.0
Soybean, seed | 0.08
Spice group 26 | 30
Star apple | 0.7
Tea, dried ³ | 5
Tea, instant ³ | 5
Tropical and subtropical, small fruit, edible peel, subgroup 23A ⁴ | 0.3
Vegetable, Brassica, head and stem, group 5-16 | 2
Vegetable, cucurbit, group 9 | 0.50
Vegetable, fruiting, group 8-10 | 0.5
Vegetable, legume, bean, edible podded, subgroup 6-22A | 1.5
Vegetable, legume, pulse, bean, dried shelled, except soybean, subgroup 6-22E | 0.06
Vegetable, legume, pulse, pea, dried shelled, subgroup 6-22F | 0.2
Vegetable, root, except sugar beet, subgroup 1B | 0.1
Vegetable, tuberous and corm, subgroup 1C | 0.04
Wheat, bran | 0.15
Wheat, forage | 0.3
Wheat, grain | 0.05
Wheat, hay | 0.2
Wheat, straw | 5.0
¹ There are no U.S. registrations as of September 27, 1999, for use on banana.
² There are no U.S. registrations as of January 18, 2012, for use on coffee, green bean.
³ There are no U.S. registrations as of June 24, 2019, for use on tea.
⁴ There are no U.S. registrations on this commodity as of January 11, 2022.

* * * * *

[FR Doc. 2023-13023 Filed 6-16-23; 8:45 am]

BILLING CODE 6560-50-P